NATIONAL SCIENCE FOUNDATION

Sunshine Act Meeting; National Science Board

The National Science Board's Executive Committee, pursuant to NSF regulations (45 CFR part 614), the National Science Foundation Act, as amended (42 U.S.C. 1862n-5), and the Government in the Sunshine Act (5 U.S.C. 552b), hereby gives notice of the scheduling of a teleconference for the transaction of National Science Board business, as follows:

Date and Time: Wednesday, April 6, 2016 from 1:00-2:00 p.m. EDT.

Subject Matter: (1) Committee Chair's opening remarks; (2) Approval of Executive Committee minutes of January 2016; (3) Review, discuss and approve an agenda for the NSB meeting scheduled for May 5-6, 2016; (4) Review annual Executive Committee report; (5) Timing for delivery of the annual Merit Review report; and (6) Committee Chair's closing remarks.

Status: Open.

Location: This meeting will be held by teleconference at the National Science Foundation, 4201 Wilson Blvd., Arlington, VA 22230. A public listening line will be available. Members of the public must contact the Board Office (call 703-292-7000 or send an email message to nationalsciencebrd@nsf.gov) at least 24 hours prior to the teleconference for the public listening number.

Updates And Point of Contact: Please refer to the National Science Board Web site www.nsf.gov/nsb for additional information. Meeting information and updates (time, place, subject matter or status of meeting) may be found at http://www.nsf.gov/nsb/notices/. Point of contact for this meeting is: James Hamos, 4201 Wilson Blvd., Arlington, VA 22230. Telephone: (703) 292-8000.

Kyscha Slater-Williams,
Program Specialist.

[FR Doc. 2016-07582 Filed 3-30-16; 4:15 pm]

BILLING CODE 7555-01-P